DEPARTMENT OF THE INTERIOR

National Park Service

[N6670; NPS-WASO-NAGPRA-NPS0041409; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Jane Pickering, Peabody Museum of Archaeology and Ethnology, Harvard University, 11 Divinity Avenue, Cambridge, MA 02138, email jpickering@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

North Central and Northeast Florida Counties

Human remains representing at least 34 individuals have been identified from Alachua County. The 21 associated funerary objects are 21 lots consisting of ceramic vessels, vessel fragments, or other clay/ceramic items; charcoal; faunal remains or faunal items; and lithics or stone items. These ancestors and funerary objects were removed from the following sites: Cade's Pond Burial Mound (8BF83); Hickory Pond Mound (8AL107); Burial Mound near Santa Fe Lake; and Grave Mounds near Santa Fe Island. In all instances, the collector and donor was Henry Gillman as part of a PMAE Expeditions (1878).

Seven associated funerary objects were defined during consultation from Duval County, in which either the location of the human remains is known but they are not present at the PMAE and/or the objects were made exclusively for burial purposes, according to Native American traditional knowledge. The seven associated funerary objects are seven lots consisting of ceramic vessels, vessel fragments, or other clay/ceramic items; and lithics or stone items. These funerary objects were removed from the following sites: Fort George Island Midden (8Du5); Grant Mound (8Du14); Large mound near Beauclerc; and Mandarin Point Mound C (8DU50). Collectors included: Clarence Bloomfield Moore (1893-1896), and H.A. Ward and Professor Orton (unknown date). Donors included: Clarence Bloomfield Moore (1894, 1896) and Ward and Howell (1881).

Human remains representing at least 76 individuals have been identified from Levy County. The 21 associated funerary objects are 21 lots consisting of ceramic vessels, vessel fragments, or other clay/ceramic items; and shell or shell items. These ancestors and funerary objects were removed from the following sites: Ancient Burial Mound; Culpepper Site (8Lv5); Way Key Mound (8Lv6); Mound near Fowler's Landing (8Lv1 or 8Lv14); and Mound near Gigger Point (8Lv3). Collectors and donors included Clarence Bloomfield Moore (1901-1903; donated 1942) and Dr. Jeffries Wyman as part of a PMAE Expedition (1860-1873; donated 1969, 1974).

Human remains representing at least five individuals have been identified from Nassau County. The nine associated funerary objects are nine lots consisting of ceramic vessels, vessel fragments, or other clay/ceramic items; faunal remains or faunal items; and shell or shell items. These ancestors and funerary objects were removed from the following sites: Fernandina Midden (8NA5) and Lighthouse Mound (8NA3). Collectors included: Clarence Bloomfield Moore (1897); Dr. C. Jackson and Samuel Hubbard Scudder (unknown date); and Dr. Jeffries Wyman as part of a PMAE Expedition (1860-1873). Donors included: Clarence Bloomfield Moore (1897); Boston Society of Natural History (1916, 1943); Dr. Jeffries Wyman as part of a PMAE Expedition (1974).

Human remains representing at least four individuals have been identified from Putnam County. The 49 associated funerary objects are 49 lots consisting of ceramic vessels, vessel fragments, or other clay/ceramic items; faunal remains or faunal items; glass items; lithics or stone items; metal or metal items; shell or shell items; and other natural materials. These ancestors and funerary objects were removed from the following sites: Dunn's Creek Mound near Horse Landing (8Pu14); Pomona Mound (8Pu15); Shell Heap (8Pu4); Mount Royal (8Pu35A); Murphy's Island Midden A (8Pu18); Burial mound near East Palatka; and Palatka Midden (8DU8). Collectors included: Clarence Bloomfield Moore (1894-1898); Dr. James D. Wyeth (unknown date); Dr. Jeffries Wyman as part of a PMAE Expedition (1860-1873); Frances LeBaron (1879); and an unknown collector (unknown date). Donors included: Clarence Bloomfield Moore (1978, 1893, 1894, 1896); Dr. James D. Wyeth (1881); Dr. Jeffries Wyman as part of a PMAE Expedition (1874); Frances LeBaron (1879); and an unknown donor (unknown date).

Human remains representing at least seven individuals have been identified from St. Johns County. The one associated funerary object is one lot of lithics or stone items. These ancestors and funerary objects were removed from the following sites: near St. Johns and Matanzas Rivers; and Deep Creek Burial Mound (8SJ26). Collectors included: Clarence Bloomfield Moore (1893-1894) and an unknown collector (unknown date). Donors included: Clarence Bloomfield Moore (1894) and Frederick H. Rindge (1894).

Human remains representing at least seven individuals have been identified from unknown counties within north central or northeast Florida. The three associated funerary objects are three lots consisting of ceramic vessels, vessel fragments, or other clay/ceramic items; faunal remains or faunal items; floral remains; lithics or stone items; ochre; shell or shell items. These ancestors and funerary objects were removed from the following sites: Magnolia Mound in “Eastern Florida”; Mound in “Eastern Florida”; Sand Mound on St. John's River. Collectors included: Dr. Jeffries Wyman as part of a PMAE Expedition (1871, 1872); and H.A.Ward and Professor Orton (unknown date). Donors included: Dr. Jeffries Wyman as part of a PMAE Expedition (1871, 1874) and Ward and Howell (1881).

Central West, Central, and Central East Florida Counties

Human remains representing at least 113 individuals have been identified from Brevard County. The 24 associated funerary objects are 24 lots consisting of ceramic vessels, vessel fragments, or other clay/ceramic items; faunal remains or faunal items; lithics or stone items; metal or metal items; shell or shell items; and other natural materials. These ancestors and funerary objects were removed from the following sites: “Burial 1,” near Cape Canaveral; “Burial 2,” near Dayton[a]; Fuller Mound (8BR90); Gleason Mound (8Br99); Hammock Mounds (8Br88); Holmes Mound (8Br86); Norris Mound (8Br89); Shell mound; near Cape Canaveral; Burial Mound in the Canaveral Mound Region; Burns shell mound (8Br85); and “Indian Fields” (8BR5). Collectors included: Clarence Bloomfield Moore (1891); Dr. Thomas Barbour (1911); and Samuel J. Mixter (1925, unknown date). Donors included: Clarence Bloomfield Moore (1891); Dr. Thomas Barbour (1911); Samuel J. Mixter (1925); and Dr. Thomas Barbour (1934).

One associated funerary object was defined during consultation from Citrus County, in which either the location of the human remains is known but they are not present at the PMAE and/or the objects were made exclusively for burial purposes, according to Native American traditional knowledge. The one associated funerary object is one lot consisting of ceramic vessels, vessel fragments, or other clay/ceramic items. These ancestors and funerary objects were removed from the following site: Mound near Crystal River. The collector was Clarence Bloomfield Moore (1901-1903; donated 1942).

Three associated funerary objects were defined during consultation from Hernando County, in which either the location of the human remains is known but they are not present at the PMAE and/or the objects were made exclusively for burial purposes, according to Native American traditional knowledge. The three associated funerary objects are three lots consisting of ceramic vessels, vessel fragments, or other clay/ceramic items. These funerary objects were removed from the following site: Mound near Bayport. The collector and donor was Clarence Bloomfield Moore (1901-1903; donated 1903, 1942).

Three associated funerary objects were defined during consultation from Hillsborough County, in which either the location of the human remains is known but they are not present at the PMAE and/or the objects were made exclusively for burial purposes, according to Native American traditional knowledge. The three associated funerary objects are 3 lots consisting of ceramic vessels, vessel fragments, or other clay/ceramic items. These funerary objects were removed from the following site: Mound near John's Pass, Tampa Bay. The collector and donor was Clarence Bloomfield Moore (1901-1903; donated 1942).

Human remains representing at least 22 individuals have been identified from Lake County. The 76 associated funerary objects are 76 lots consisting of ceramic vessels, vessel fragments, or other clay/ceramic items; charcoal; faunal remains or faunal items; lithics or stone items; metal or metal items; and shell or shell items. These ancestors and funerary objects were removed from the following sites: Bartram's Mound; Little Orange Mound (8La24); Hawkinsville Mound (8LA34); Old Town Midden [St. Francis] (8La29); Osceola Mound; Sand Mound (8La9); Burial Mound Opposite Huntoon Island; Shell heap near Old Town, St. Johns River. Collectors included: Clarence Bloomfield Moore (1891-1892); and Dr. Jeffries Wyman as part of a PMAE Expedition (1860-1873); John E. Harris. Donors included: Clarence Bloomfield Moore (1891, 1892); Dr. Jeffries Wyman as part of a PMAE Expedition (1873, 1874).

Human remains representing at least one individual have been identified from Lake/Volusia County. No associated funerary objects were present or have not been identified. These ancestors were removed from the following site: “East Florida, near Blue Spring”. Collectors included: Dr. Jeffries Wyman as part of a PMAE expedition (1872). Donors included: Dr. Jeffries Wyman as part of a PMAE expedition (1873).

Human remains representing at least 32 individuals have been identified from Orange County. The 55 associated funerary objects are 55 lots consisting of ceramic vessels, vessel fragments, or other clay/ceramic items; faunal remains or faunal items; glass items; lithics or stone items; metal or metal items; shell or shell items. These ancestors and funerary objects were removed from the following sites: Burial Mound; Red Land Hammock, Mound 1; Red Land Hammock, Mound 2; Red Land Hammock, Mound VI; Mulberry Mound (8OR9); Raulerson's Mound 2 (8Vo136). Collectors included: Clarence Bloomfield Moore (1891, 1901-1903); Dr. David Mack, Jr. as part of a PMAE Expedition (1880); and an unknown collector (unknown date). Donors included: Clarence Bloomfield Moore (1891, 1842); Dr. David Mack Jr. as part of a PMAE Expedition (1880); and an unknown donor (unknown date).

Human remains representing at least five individuals have been identified from Pinellas County. The one associated funerary object is one lot consisting of ceramic vessels, vessel fragments, or other clay/ceramic items. These ancestors and funerary objects were removed from the following sites: Sound mound near St. Petersburg; Tarpon Springs, Safford Mound (8Pi3); “water washed burial mound.” Collectors included: John Wilhelm (1938); V.P. Stevens (unknown date); and an unknown collector (unknown date). Donors included: John Wilhelm (1939); Mary G. Safford (1889); and V.P. Stevens (2000).

Nine associated funerary objects were defined during consultation from Polk County, in which either the location of the human remains is known but they are not present at the PMAE and/or the objects were made exclusively for burial purposes, according to Native American traditional knowledge. The nine associated funerary objects are nine lots consisting of ceramic vessels, vessel fragments, or other clay/ceramic items; faunal remains or faunal items; shell or shell items. These funerary objects were removed from the following site: Shell heap. The collector and doner was Dr. Jeffries Wyman as part of a PMAE expedition (1860-1873, donated 1974).

Human remains representing at least one individual have been identified from Sarasota County. No associated funerary objects were present or have not been identified. These ancestors were removed from the following site: Osprey (8So2), collected by John G. Webb (1868) and donated by the Smithsonian Institution (1872).

Human remains representing at least 11 individuals have been identified from Seminole County. The 15 associated funerary objects are 15 lots consisting of ceramic vessels, vessel fragments, or other clay/ceramic items; faunal remains or faunal items; glass items; lithics or stone items; metal or metal items; shell or shell items. These ancestors and funerary objects were removed from the following sites: Bear Hammock Mound; Ginns Grove Mound; Speers or Spears Landing Mound (8Se4); Sand Mound (8Se13); Burial Mound at Black Hammock (8SE9); Burial Mound at Black Hammock (probable). Collectors included: Clarence Bloomfield Moore (1891); Dr. Jeffries D. Wyman as part of a PMAE Expedition (1860-1873); and an unknown collector (unknown date). Donors included: Clarence Bloomfield Moore (1891); Dr. Jeffries Wyman as part of a PMAE Expedition (1867, 1869, 1874); and an unknown donor (unknown date).

Human remains representing at least 63 individuals have been identified from Volusia County. The 181 associated funerary objects are 181 lots consisting of ceramic vessels, vessel fragments, or other clay/ceramic items; faunal remains or faunal items; fiber; glass items; lithics or stone items; metal or metal items; shell or shell items; other natural materials. These ancestors and funerary objects were removed from the following sites: Blue Springs Midden A (8Vo42); Blue Springs Midden B (8Vo43); Blue Springs Shell Heap; Bluffton Mound; Orange Bluff (8Vo22); Bluffton Mound; De Leon Springs Mound (8Vo31); Huntoon Island Midden (8Vo202); Indian Mound near Jacksonville; Ropes Island Midden (8Vo3); Shell heap, Old Enterprise; Enterprise Midden (8Vo55); Tick Island (8Vo25); Tick Island Burial Mound?; Thursby Mound (8Vo35); Volusia Sand Mound I (8Vo14); Volusia Bar (8Vo02); Hitchens Creek Mound (8Vo05); “Low sand mounds” near St. John's River; Spruce Creek Mound (8Vo99); Volusia Sand Mound II (8Vo15); and Mound near Halifax River. Collectors included: Charles H. Curtis (1891); Clarence Bloomfield Moore (1868, 1879, 1892, 1896, unknown date); Dr. Jeffries D. Wyman as part of a PMAE Expedition (1860-1873); J.C. Weld (unknown date); L. Agassiz (1859); and unknown collectors (unknown dates). Donors included: Charles H. Curtis (1891); Clarence Bloomfield Moore (1878, 1879, 1892, 1894, 1896); Dr. Jeffries Wyman as part of a PMAE Expedition (1872, 1873, 1874); J.C. Weld (1878); Museum of Comparative Zoology (1872); Dr. W. H. Babcock (c. 1897); The Pilgrim Society (1965).

Human remains representing at least 5 individuals have been identified from unknown counties within Central Florida. The 40 associated funerary objects are 40 lots consisting of ceramic vessels, vessel fragments, or other clay/ceramic items; faunal remains or faunal items; floral remains; lithics or stone items; ochre; shell or shell items. These ancestors and funerary objects were removed from the following sites: Mound(s) on the Northwest Coast; “Eastern Florida”; Burial Mound on St. Johns River; Grave Mound(s) on St. Johns River; Grave mound near Lake Okeechobee; Low Mound on St. John's River; Shell heap or burial mound near Cane Lake or Lake Harney; “near Sanford”. Collectors included: Clarence Bloomfield Moore (1891, 1901); Dr. Jeffries Wyman as part of a PMAE Expedition (18971); Mr. Ober (unknown date); Charles C. Jones Jr. (unknown date); and an unknown collector (unknown date). Donors included: Clarence Bloomfield Moore (1891, 1901); Dr. Jeffries Wyman as part of a PMAE Expedition (18971); Ober Collection (1879); William H. Claflin, Jr. (1895); and an unknown collector (unknown date).

Southwestern and Southeastern Florida Counties

Human remains representing at least one individual have been identified from Broward County. No associated funerary objects were present or have not been identified. These ancestors were removed from the following sites: the Everglades near Fort Lauderdale. Collectors included: George H. McConnaughay, Broward Grain & Supply Company (unknown date). Donors included: George H. McConnaughay (1952).

Human remains representing at least one individual have been identified from Dade County. No associated funerary objects were present or have not been identified. These ancestors were removed from the following sites: Miami Ship Channel. Collectors included: “Workmen on channel” (unknown date). Donors included: Dr. Robert Spicer (1936).

Human remains representing at least 95 individuals have been identified from Lee County. The 17 associated funerary objects are 17 lots consisting of ceramic vessels, vessel fragments, or other clay/ceramic items; glass items; lithics or stone items; and shell or shell items. These ancestors and funerary objects were removed from the following sites: “along the Caloosahatchee River”; Burial Mound on the South Point of Foster Bay, Captiva Island/Pine Island Sound; La Costa Island in Charlotte Harbor; Pine Island in Charlotte Harbor; Chokoloskee Island (8CR01). Collectors included: Clarence Bloomfield Moore (1891, 1899-1900); Dr. Jeffries Wyman as part of a PMAE Expedition (1869); Mr. AR. Daloz (1937); and Mr. Francis B. Crowninshield (1919). Donors included: Clarence Bloomfield Moore (1891, 1900); Dr. Jeffries Wyman as part of a PMAE Expedition (1969); Mr. A.R. Daloz (1938); and Mr. Francis B. Crowninshield (1949).

Cultural Affiliation

Based on the information available and the results of consultation, cultural affiliation is clearly identified by the information available about the human remains and associated funerary objects described in this notice.

Determinations

The PMAE has determined that:

• The human remains described in this notice represent the physical remains of 483 individuals of Native American ancestry.

• The 536 objects described in this notice are reasonably believed to have been placed intentionally with or near individual human remains at the time of death or later as part of the death rite or ceremony.

• There is a connection between the human remains and associated funerary objects described in this notice from North Central and Northeast Florida Counties and the Miccosukee Tribe of Indians; Seminole Tribe of Florida; The Muscogee (Creek) Nation; and The Seminole Nation of Oklahoma.

• There is a connection between the human remains and associated funerary objects described in this notice from Central West, Central, Central East, Southwest, and Southeastern Florida Counties and the Miccosukee Tribe of Indians; Seminole Tribe of Florida; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 16, 2026. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: November 25, 2025.
Melanie O'Brien,
Manager, National NAGPRA Program.

[FR Doc. 2025-23015 Filed 12-16-25; 8:45 am]

BILLING CODE 4312-52-P